DEPARTMENT OF COMMERCE

National Oceanic and Atmospheric Administration

RIN 0648-XF378

Marine Mammals; File No. 21059

AGENCY: National Marine Fisheries Service (NMFS), National Oceanic and Atmospheric Administration (NOAA), Commerce.

ACTION: Notice; receipt of application.

SUMMARY: Notice is hereby given that Glacier Bay National Park and Preserve, P.O. Box 140, Gustavus, AK 99826 (Responsible Party: Philip N. Hooge), has applied in due form for a permit to conduct research on humpback (Megaptera novaeangliae), killer (Orcinus orca), minke (Balaenoptera acutorostrata) and gray whales (Eschrichtius robustus).

DATES: Written, telefaxed, or email comments must be received on or before August 14, 2017.

ADDRESSES: The application and related documents are available for review by selecting “Records Open for Public Comment” from the “Features” box on the Applications and Permits for Protected Species (APPS) home page, https://apps.nmfs.noaa.gov, and then selecting File No. 21059 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The proposed permit would authorize takes of the above listed species during vessel surveys to gather information currently lacking regarding their ecology, behavior and population status to enable information-based resource management in southeastern Alaska especially Glacier Bay National Park & Preserve (GBNPP). The core study area is Glacier Bay/Icy Strait, but includes all nearshore waters of the mainland and Alexander Archipelago. Takes by harassment may occur by close approach for vessel surveys, photo-identification, behavioral observation, collection of feces/sloughed skin, biopsy sampling and passive acoustic recording. The maximum number of annual approaches to whales (risking Level B harassment) will be 2500 humpback whales, 500 killer whales, 20 minke whales and 20 gray whales. Biopsy takes on 50 humpback and 50 killer whales are also requested. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Catherine Marzin,
Acting Deputy Director, Office of Protected Resources, National Marine Fisheries Service.

[FR Doc. 2017-14640 Filed 7-12-17; 8:45 am]

BILLING CODE 3510-22-P